ENVIRONMENTAL PROTECTION AGENCY

[EPA-HQ-OPP-2014-0125; FRL-9994-46]

Pesticide Reregistration Performance Measures and Goals; Annual Progress Report; Notice of Availability

AGENCY: Environmental Protection Agency (EPA).

ACTION: Notice.

SUMMARY: This notice announces the availability of EPA's progress reports in meeting its performance measures and goals for pesticide reregistration during fiscal years 2013, 2014, 2015, and 2016. The progress reports also present total numbers of products registered under the “fast-track” provisions of the Federal Insecticide, Fungicide, and Rodenticide Act (FIFRA).

DATES: Submit comments on or before October 25, 2019.

ADDRESSES: Submit your comments, identified by docket identification (ID) number EPA-HQ-OPP-2014-0125, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Ramé Cromwell, Antimicrobials Division (7510P), Office of Pesticide Programs, Environmental Protection Agency, 1200 Pennsylvania Ave. NW, Washington, DC 20460-0001; telephone number: (703) 308-9068; email address: cromwell.rame@epa.gov.

SUPPLEMENTARY INFORMATION:

I. Does this action apply to me?

This is directed to the public in general and may be of interest to a wide range of stakeholders including environmental, farm worker, and agricultural advocates; the chemical industry; pesticide users; and members of the public interested in the integration of tolerance reassessment with the reregistration process, and the status of various regulatory activities associated with reregistration and tolerance reassessment. Given the broad interest, the Agency has not attempted to identify or describe all the specific entities that may be interested in this action.

II. What action is the Agency taking?

This notice announces the availability of EPA's progress reports in meeting its performance measures and goals for pesticide reregistration during fiscal years 2013, 2014, 2015, and 2016.

The Federal Insecticide, Fungicide, and Rodenticide Act (FIFRA), 7 U.S.C. 136 et seq., requires EPA to publish information about EPA's annual achievements in meeting its performance measures and goals for pesticide reregistration. The reports for fiscal years 2013, 2014, 2015, and 2016 discuss the integration of tolerance reassessment with the reregistration process, and describe the status of various regulatory activities associated with reregistration and tolerance reassessment. The 2013, 2014, 2015 and 2016 reports also give total numbers of products reregistered and products registered under the “fast-track” provisions of FIFRA.

III. How can I get a copy of the reports?

1. Docket. The 2013, 2014, 2015 and 2016 reports are available at http://www.regulations.gov, under docket ID number EPA-HQ-OPP-2014-0125.

2. EPA Website. The 2013, 2014, 2015 and 2016 reports are also available on EPA's website at https://www.epa.gov/pesticide-reevaluation/reregistration-and-other-review-programs-predating-pesticide-registration.

IV. Can I comment on these reports?

EPA welcomes input from stakeholders and the general public. Any written comments received will be taken into consideration in the event that EPA determines that further action is warranted. EPA does not expect these reports to lead to any particular action, and therefore is not seeking particular public comment.

V. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

Authority: 7 U.S.C. 136a-1(l).

Dated: August 20, 2019.
Alexandra Dapolito Dunn,
Assistant Administrator, Office of Chemical Safety and Pollution Prevention.

[FR Doc. 2019-18302 Filed 8-23-19; 8:45 am]

BILLING CODE 6560-50-P